NATIONAL LABOR RELATIONS BOARD

Sunshine Act Meetings, June 2011

TIME AND DATES: All meetings are held at 2:30 p.m. Wednesday, June 1; Thursday, June 2; Tuesday, June 7; Wednesday, June 8; Thursday, June 9; Tuesday, June 14; Wednesday, June 15; Thursday, June 16; Tuesday, June 21; Wednesday, June 22; Thursday, June 23; Tuesday, June 28; Wednesday, June 29; Thursday, June 30.

Place: Board Agenda Room, No. 11820, 1099 14th St., NW., Washington, DC 20570.

Status: Closed.

Matters To Be Considered: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

Contact Person for More Information: Lester A. Heltzer, (202) 273-1067.

Dated: June 7, 2011.
Lester A. Heltzer,
Executive Secretary.

[FR Doc. 2011-14400 Filed 6-7-11; 11:15 am]

BILLING CODE 7545-01-P